SECURITIES AND EXCHANGE COMMISSION

[File No. 500-1]

Order of Suspension of Trading; i n the Matter of Accel Brands, Inc.

September 27, 2016.

It appears to the Securities and Exchange Commission that there is a lack of current and accurate information concerning the securities of Accel Brands, Inc. (“Accel Brands”) (CIK No. 0001077800) because it has not filed any periodic reports since the period ended March 31, 2015, and the staff of the Securities and Exchange Commission has independently endeavored to determine whether the company is operating and the company has failed to respond to the Commission's inquiry about its operating status. Accel Brands, formerly known as Accelpath, Inc., is a Delaware corporation with its principal place of business listed as National Harbor, Maryland with stock quoted on OTC Link (previously “Pink Sheets”) operated by OTC Markets Group, Inc. under the ticker symbol ACLP.

The Commission is of the opinion that the public interest and the protection of investors require a suspension of trading in the securities of Accel Brands.

Therefore, it is ordered, pursuant to Section 12(k) of the Securities Exchange Act of 1934, that trading in the securities of Accel Brands is suspended for the period from 9:30 a.m. EDT on September 27, 2016, through 11:59 p.m. EDT on October 10, 2016.

By the Commission.
Brent J. Fields,
Secretary.

[FR Doc. 2016-23696 Filed 9-27-16; 4:15 pm]

BILLING CODE 8011-01-P